DEPARTMENT OF EDUCATION

[Catalog of Federal Domestic Assistance (CFDA) Number: 84.325B]

Reopening; Applications for New Awards; Personnel Development To Improve Services and Results for Children With Disabilities—Early Childhood Personnel Center

AGENCY: Office of Special Education and Rehabilitative Services, Department of Education.

ACTION: Notice.

SUMMARY: On April 19, 2017, we published in the Federal Register (82 FR 18447) a notice inviting applications (NIA) for the Personnel Development to Improve Services and Results for Children with Disabilities—Early Childhood Personnel Center competition. The NIA established a deadline date of June 5, 2017, for the transmittal of applications. This notice reopens the competition until September 11, 2017.

DATES:

Deadline for Transmittal of Applications: September 11, 2017.

SUPPLEMENTARY INFORMATION: No applications received in response to the NIA were funded because the applicants did not adequately address the selection criteria for the competition. Therefore, we are reopening the competition to allow applicants to submit or resubmit applications that meet the requirements in the NIA, in order to ensure that State Part C and Part B, section 619 programs receive the technical assistance necessary to implement high-quality Comprehensive Systems of Personnel Development.

We have eliminated the formatting and page-limit requirements specified in the NIA. Further, the specification in the NIA that the Secretary will not consider budgets above the maximum award amount is no longer applicable. However, we will only fund a successful application up to $2,000,000 for any single budget period of 12 months.

Applicants that have already submitted applications under the FY 2017 competition are encouraged to review their applications and determine whether they have met all eligibility requirements and adequately addressed the selection criteria in the NIA and the application package, which is available at www.grants.gov.

Applications that were previously deemed ineligible for review must be resubmitted to be considered for review. If a new application is not submitted by an applicant whose application was reviewed, the Department will use the application that was submitted before 4:30:00 p.m., Washington DC time, on June 5, 2017, 4:30:00 p.m.

Finally, this competition is subject to intergovernmental review as set forth in Executive Order 12372 and the regulations in 34 CFR part 79. However, under 34 CFR 79.8(a), we waive intergovernmental review in order to make an award by the end of FY 2017.

Note: All information in the NIA for this competition remains the same, except for the deadline for the transmittal of applications, the formatting and page limit requirements, the mandatory page limit, the eligibility of applications that exceed the maximum award amount, and the intergovernmental review requirements.

Program Authority: 20 U.S.C. 1462 and 1481.

FOR FURTHER INFORMATION CONTACT: Tracie Dickson, U.S. Department of Education, 400 Maryland Avenue SW., Room 5181, Potomac Center Plaza, Washington, DC 20202-5076. Telephone: (202) 245-7844.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) by contacting the Management Support Services Team, U.S. Department of Education, 400 Maryland Avenue SW., Room 5113, Potomac Center Plaza, Washington DC 20202-2500. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 8, 2017.
Kimberly M. Richey,
Acting Assistant Secretary for Special Education and Rehabilitative Services.

[FR Doc. 2017-17014 Filed 8-10-17; 8:45 am]

BILLING CODE 4000-01-P